DEPARTMENT OF COMMERCE

Bureau of Industry and Security

15 CFR Parts 740, 742, 748, 754, and 772

[Docket No. 030425102-4004-02]

RIN 0694-AC20

Mandatory Use of Simplified Network Application Processing System

AGENCY: Bureau of Industry and Security, Commerce.

ACTION: Proposed rule; extension of comment period.

SUMMARY: This notice extends until February 12, 2004, the deadline for public comments on the proposed rule that would amend the Export Administration Regulations (EAR) to implement a revised version of the Bureau of Industry and Security's (BIS) Simplified Network Application Processing system. This extension of time would allow the public additional time to comment on the rule.

DATES: Comments must be received by February 12, 2004.

ADDRESSES: Written comments should be e-mailed to: rpd@bis.doc.gov, faxed to 202-482-3355, or mailed or delivered to Regulatory Policy Division, Office of Exporter Services, Bureau of Industry and Security, Department of Commerce, 14th and Pennsylvania Avenue, NW., Room 2705, Washington, DC 20230. Reference Regulatory Identification Number 0694-AC20 in all comments.

FOR FURTHER INFORMATION CONTACT: For information concerning SNAP+, contact George Ipock, Office of Administration: e-mail gipock@bis.doc.gov, telephone: (202) 482-5469. For information concerning other matters raised by the proposed rule, contact William Arvin, Office of Exporter Services: e-mail warvin@bis.doc.gov, telephone (202) 482-2440.

SUPPLEMENTARY INFORMATION:

Background

On November 12, 2003, the Bureau of Industry and Security published a proposed rule that would implement a new, internet based, system for submitting export license applications, classification requests, encryption review requests and License Exception AGR notices. See 68 FR 64009. The proposed rule would make use of this new system mandatory with a limited number of exceptions. The deadline for public comment on the proposed rule was January 12, 2004. The Bureau is now extending that deadline to February 12, 2004, to allow the public additional time to comment on the rule.

Eileen Albanese,
Director, Office of Exporter Services.

[FR Doc. 04-565 Filed 1-9-04; 8:45 am]

BILLING CODE 3510-33-P